DEPARTMENT OF HEALTH AND HUMAN SERVICES

45 CFR Part 170

Health Information Technology Standards, Implementation Specifications, and Certification Criteria and Certification Programs for Health Information Technology

CFR Correction

In Title 45 of the Code of Federal Regulations, Parts 1 to 199, revised as of October 1, 2015, on page 1235, in § 170.102, add, in alphabetical order, the definition “Day or Days means a calendar day or calendar days.”

[FR Doc. 2016-17365 Filed 7-21-16; 8:45 am]

BILLING CODE 1505-01-D